DEPARTMENT OF HEALTH AND HUMAN SERVICES

Administration for Children and Families

Submission for OMB Review; Comment Request

Title: Objective Work Plan (OWP), Objective Progress Report (OPR) and Project Abstract

OMB No.: 0980-0204.

Description: Content changes are being made to the OPR ONLY. The information in the OPR is being collected on a quarterly basis to monitor the performance of grantees and better gauge grantee progress. The standardized format will allow ANA to report results across all its program areas and flag grantees that may need additional training and/or technical assistance to successfully implement their projects.

Following are content changes being made within specific sections of the OPR form:

OBJECTIVE WORK PLAN UDATE Section: Adding 1st through 4th Quarter (Ql,Q2,Q3,Q4) results for Activities within each Objective. The grantee can continue to add to this form each quarter (rather than on to a new form), reflecting cumulative results throughout the project period rather than just the quarter.

FINANCIAL Section: Add 2 Questions: (1) Provide details on any income generated as a result of ANA project activities; (2) Provide details on any changes made to the budget during the reporting period.

NATIVE AMERICAN YOUTH AND ELDER OPPORTUNITIES Section: Add Question: (1) Request details on any intergenerational activities between grandparents and their grandchildren.

Finally, add a new section (last section) to the form:

PROJECT SUSTAINABILITY: (1) Request details on the grantee's intention to continue the project benefits and/or services after the project period has ended.

End of Content Changes to the OPR.

No changes are being made to the OWP or to the Project Abstract (below).

The information collected by the OWP is needed to properly administer and monitor the Administration for Native Americans (ANA) programs within the Administration for Children and Families (ACF). The OWP assists applicants in describing their projects' objectives and activities, and also assists independent panel reviewers, ANA staff and the ANA Commissioner during the review and funding decision process.

The Project Abstract provides crucial information in a concise format that is utilized by applicants, independent reviewers, ANA staff and the ANA Commissioner.

Respondents: Tribal Government, Native non-profit organizations, Tribal Colleges & Universities.

Annual Burden Estimates
Instrument | Number of respondents | Number of responses per respondent | Average burden hours per response | Total burden hours
OWP | 500 | 1 | 3 | 1,500
OPR | 275 | 4 | 1 | 1,100
Project Abstract | 500 | 1 | 0.50 | 250

Estimated Total Annual Burden Hours: 2,850

Additional Information

Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Janean Chambers,
Reports Clearance Officer.

[FR Doc. E9-11151 Filed 5-13-09; 8:45 am]

BILLING CODE 4184-01-M